DEPARTMENT OF EDUCATION

National Institute on Disability and Rehabilitation Research (NIDRR)—Disability and Rehabilitation Research Projects and Centers Program—Rehabilitation Research and Training Centers (RRTCs)—Employment Outcomes for Individuals Who Are Blind or Visually Impaired

AGENCY: Office of Special Education and Rehabilitative Services, Department of Education.

ACTION: Notice of proposed priority.

Catalog of Federal Domestic Assistance (CFDA) Number: 84.133B-6.

SUMMARY: The Assistant Secretary for Special Education and Rehabilitative Services proposes a priority for the Disability and Rehabilitation Research Projects and Centers Program administered by NIDRR. Specifically, this notice proposes a priority for an RRTC. The Assistant Secretary may use this priority for competitions in fiscal year (FY) 2010 and later years. We take this action to focus research attention on areas of national need. We intend this priority to improve rehabilitation services and outcomes for individuals with disabilities.

DATES: We must receive your comments on or before April 26, 2010.

ADDRESSES: Address all comments about this notice to Donna Nangle, U.S. Department of Education, 400 Maryland Avenue, SW., room 6029, Potomac Center Plaza (PCP), Washington, DC 20202-2700.

If you prefer to send your comments by e-mail, use the following address: donna.nangle@ed.gov. You must include the term “Proposed Priority for an RRTC on Center on Employment Outcomes for Individuals who are Blind or Visually Impaired” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Invitation to Comment: We invite you to submit comments regarding this notice.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 6029, 550 12th Street, SW., PCP, Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended.

Program Authority: 29 U.S.C. 762(g) and 764(b)(2).

Applicable Program Regulations: 34 CFR part 350.

Proposed Priority

This notice contains one proposed priority.

Center on Employment Outcomes for Individuals Who are Blind or Visually Impaired

Background

Rehabilitation Research and Training Centers (RRTCs)

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (72 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Center on Employment Outcomes for Individuals Who Are Blind or Visually Impaired

Background

More than 21 million non-institutionalized adults, age 18 and above, report trouble seeing even when wearing glasses or contacts (U.S. Department of Health and Human Services, 2008). Of working-age (16-64 years) individuals who report blindness or serious difficulty seeing even when wearing glasses, 38.9 percent are employed (American Foundation for the Blind, 2009). In contrast, 71.2 percent of individuals in this age range with no disabling condition are employed (U.S. Department of Labor, 2009).

Previous research, some of which has been conducted by NIDRR-funded centers on blindness and low vision, has identified a number of barriers to, and facilitators of, employment for individuals who are blind or visually impaired. Facilitators include, but are not limited to, postsecondary education or training, braille literacy, inclusive corporate cultures, and some characteristics of vocational rehabilitation (VR) services (Capella-McDonall, 2005; Golub, 2006; Jernigan Institute, 2009; Kirchner & Smith, 2005). Barriers include negative employer attitudes about blindness and work disincentives experienced by Social Security beneficiaries. These disincentives include reduced benefits and potential ineligibility for health care coverage for those who become employed and whose income exceeds program income limits (Crudden, Sansing & Butler, 2005; Stapleton, O'Day, Livermore, & Imparato, 2006).

There is little empirical research that applies the results of this research on barriers and facilitators to the development and testing of specific practices, services, and interventions to improve employment outcomes in either the general population of individuals who are blind or who have visual impairments, or in subpopulations of individuals from this population who are at even greater risk for poor employment outcomes. Such populations include, but are not limited to, individuals who have more severe vision loss or who have multiple disabilities (National Longitudinal Transition Study-2, 2005; Shaw, Gold & Wolffe, 2007).

Moreover, although there are a variety of services, practices, and interventions that are currently being used to improve employment outcomes for individuals who are blind or visually impaired, there is little research that supports the effectiveness and use of these interventions and practices. Some of these interventions and practices directly relate to improving employment outcomes. These include the use of peer mentoring as well as collaborations between VR agencies and consumer organizations that can provide access to mentors and input regarding VR services and counselor training (Drew & Alan, 2006; Iowa Department for the Blind, 2009; National Federation of the Blind, 2009). Other practices and interventions, such as training to promote positive adjustment to an acquired disability, and orientation/mobility training, are intended to have more general effects, but appear to affect occupational success as well (Drew & Alan, 2004; Omvig, 2005). Research is necessary to determine the effectiveness of these practices and to identify and validate other promising practices that improve employment outcomes for this population.

References

American Foundation for the Blind. (2009). Interpreting Bureau of Labor Statistics employment data. See http://www.afb.org/Section.asp?SectionID=15&SubTopicID=177.

Capella-McDonnall, M.E. (2005). Predictors of competitive employment for blind and visually impaired consumers of vocational rehabilitation services. Journal of Visual Impairment & Blindness, 99, 303-315.

Crudden, A., Sansing, W., & Butler, S. (2005). Overcoming barriers to employment: Strategies of rehabilitation providers. Journal of Visual Impairment & Blindness, 99, 325-335.

Drew, D.W., & Alan, G.M. (Eds). (2004). Contemporary issues in orientation and mobility. Institute on Rehabilitation Issues, Monograph No. 29. Washington, DC: The George Washington University, Rehabilitation Continuing Education Program.

Drew, D.W., & Alan, G.M (Eds.). (2006). Consumer organizations: Important resources for vocational rehabilitation agencies. Institute on Rehabilitation Issues Monograph No. 31. Washington, DC: The George Washington University, Center for Rehabilitation Counseling Research and Education.

Golub, D.B. (2006). A model of successful work experience for employees who are visually impaired: The results of a study. Journal of Visual Impairment & Blindness, 100, 715-725.

Iowa Department for the Blind. (2009). Pathfinders: Changing Lives together. See http://www.blind.state.ia.us/living/pathfinders.

Jernigan Institute. (2009). The Braille literacy crisis in America: Facing the truth, reversing the trend, empowering the blind. National Federation of the Blind. See http://www.nfb.org/nfb/Braille_Initiative.asp.

Kirchner, C, & Smith, B. (2005). Transition to what?: Education and employment outcomes for visually impaired youths after high school. Journal of Visual Impairment & Blindness, 99, 499-503.

National Federation of the Blind. (2009). National Center for Mentoring Excellence: A program of the National Federation of the Blind. See http://www.nfb.org/nfb/NCME_Brochure1.asp?SnID=1447563890.

National Longitudinal Transition Study-2. (2005). Changes over time in the early post school outcomes of youth with disabilities. See http://www.nlts2.org/reports/2005_06/.

Omvig, J.H. (2005). Freedom for the blind: The secret is empowerment. Baltimore, MD: National Federation of the Blind.

Shaw, A., Gold, E., & Wolffe, K. (2007). Employment-related experiences of youths who are visually impaired: How are these youths faring? Journal of Visual Impairment & Blindness, 101, 7-21.

Stapleton, D.C., O'Day, B.L., Livermore, G.A., & Imparato, A.J. (2006). Dismantling the poverty trap: Disability policy for the twenty-first century. The Milbank Quarterly, 84, 701-732.

U.S. Department of Health and Human Services. (2008). Summary health statistics for the U.S. population: National Health Interview Survey, 2006. (DHHS Publication No. (PHS) 2008-1564). Hyattsville, MD.

Proposed Priority

The Assistant Secretary for Special Education and Rehabilitative Services proposes a priority for a Rehabilitation Research and Training Center (RRTC) on Employment Outcomes for Individuals Who are Blind or Visually Impaired. This RRTC must conduct research that contributes to improving competitive employment outcomes for individuals who are blind or visually impaired, consistent with the individual's informed choice and abilities (see section 100(a)(2)(B) of Title I of the Rehabilitation Act of 1973, as amended). For the purposes of this priority, this population is defined as individuals who have “central visual acuity of 20/200 or less in the better eye with the use of a correcting lens. An eye which is accompanied by a limitation in the fields of vision such that the widest diameter of the visual field subtends an angle no greater than 20 degrees shall be considered for purposes of this paragraph as having a central visual acuity of 20/200 or less” (42 U.S.C. 416(i)(1)(B)). Under this priority, the RRTC must contribute to the following outcomes:

(a) Evidence-based interventions and practices designed to facilitate competitive employment outcomes for individuals who are blind or visually impaired. The RRTC must contribute to this outcome by developing and evaluating new interventions and practices, evaluating practices currently in use, or by conducting both of these types of research.

(b) New knowledge about employment interventions and practices for individuals who are blind or visually impaired, and who are also at greater risk for poor employment outcomes due to other individual characteristics (e.g., individuals with more severe vision loss or individuals with multiple disabilities). The RRTC must contribute to this outcome by conducting research with at least one at-risk group (as described earlier in this paragraph) to: develop and evaluate new interventions or practices, evaluate practices currently being used with members of the at-risk group, or by conducting both of these types of research. Applicants must identify the specific at-risk group or groups they propose to study, provide evidence that the selected population or populations are, in fact, at greater risk for poor employment outcomes, and explain how the proposed interventions and practices are expected to address the needs of the population or populations.

(c) Increased incorporation of research findings into practice and policy. The RRTC must contribute to this outcome by:

(1) Collaborating with providers of vocational rehabilitation (VR) services, employer groups, and stakeholders (e.g., individuals who are blind or visually impaired or consumer groups) in conducting the work of the RRTC; and

(2) Conducting training and dissemination activities to facilitate the utilization of research findings in employment and VR settings.

(d) In addition, through coordination with the NIDRR Project Officer, this RRTC must collaborate with:

(1) Appropriate NIDRR-funded grantees, including knowledge translation grantees; and

(2) Relevant Office of Special Education Programs and Rehabilitation Services Administration grantees.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the Disability and Rehabilitation Research Projects and Centers Program have been well established over the years in that similar projects have been completed successfully. This proposed priority will generate new knowledge and technologies through research, development, dissemination, utilization, and technical assistance projects.

Another benefit of this proposed priority is that the establishment of a new RRTC will support and will improve the lives of individuals with disabilities. The new RRTC will generate, disseminate, and promote the use of new information that will improve the options for individuals with disabilities to obtain, retain, and advance in employment.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 23, 2010.
Alexa Posny,
Assistant Secretary for Special Education and Rehabilitative Services.

[FR Doc. 2010-6783 Filed 3-25-10; 8:45 am]

BILLING CODE 4000-01-P